DEPARTMENT OF THE INTERIOR

Bureau of Land Management

[LLIDI9310000. 1060JJ0000 LXSSD0640000]

Notice of Temporary Closure of Public Lands in Custer County, ID

AGENCY: Bureau of Land Management, Interior.

ACTION: Notice of temporary closure.

SUMMARY: Notice is hereby given that a temporary closure to motorized travel and human entry is in effect on public lands administered by the Challis Field Office, Idaho Falls District, Bureau of Land Management.

DATES: The gather operation is expected to begin on or about October 24, 2012, and end November 2, 2012. The gather could be shorter depending on weather, location of herds, success of capture operations, and other variable conditions. The closure will last only as long as the gather.

FOR FURTHER INFORMATION CONTACT: Todd Kuck, Field Manager, 1151 Blue Mountain Road, Challis, Idaho 83226, 208-879-6200. Persons who use a telecommunications device for the deaf (TDD) may call the Federal Information Relay Service (FIRS) at 1-800-877-8339 to contact the above individuals during normal business hours.

The FIRS is available 24 hours a day, seven days a week, to leave a message or question with the above individuals. You will receive a reply during normal hours.

SUPPLEMENTARY INFORMATION: This temporary area closure affects public lands in the Challis Herd Management Area (HMA) south on U.S. Hwy 93 from the junction of U.S. Hwy 93 and Idaho State Hwy 75 to Custer County. The majority of the temporary closures will be located around Spar Canyon Road and Road Creek Road. The location and duration of the closure will depend on the location of the wild horses and the time needed to move the horses to the gather corrals. The legal description of the closures, with their potential capture sites, is in Custer County, Idaho and more particularly described as:

Boise Meridian, Idaho

Potential Capture Site #1

T. 11 N., R. 19 E.

Secs. 22, 23, 26, 27, 28, 29, 32, 33 and 34

Potential Capture Site #2

T. 10 N., R. 19 E.

Secs. 21, 22, 23, 25, 26, 27 and 35

T. 10 N., R. 20 E.

Secs. 29, 30, 31, 32

Potential Capture Site #3

T. 11 N., R. 20 E.

Secs. 4, 5, 8, 9, 10, and 17

Potential Capture Site #4

T. 11 N., R. 20 E.

Secs. 14, 15, 22, 23 and 24

Potential Capture Site #5

T. 11 N., R. 20 E.

Secs. 25, 26, 34 and 35

T. 11 N., R. 21 E.

Secs. 30

Potential Capture Site #6

T. 12 N., R. 19 E.

Secs. 11, 12, 13 and 14

T. 12 N., R. 20 E.

Secs. 7, 18

Potential Capture Site #7

T. 10 N., R. 20 E.

Secs. 25, 26, 27, 28, 29, 32, 33, 34 and 35

T. 10 N., R. 21 E.

Secs. 30 and 31

Potential Capture Site #11

T. 11 N., R. 19 E.

Secs. 1, 2, 3, 4, 9, 10, 11, 12, 13, 14 and 15

The area closure is necessary to ensure the safety of the contractors, employees, public and the horses while gather operations are under way. Capture sites will be closed one at a time when being used for capture operations, rather than simultaneously. Closures will be limited to the smallest area needed to conduct the daily gather operations and will move from capture site to capture site to ensure the public has access to their public lands when operations are not occurring near the capture site or holding facility. Where possible, closed areas would be open to traffic when directed by a pilot car. The area affected will be posted the evening before, by 8:00 p.m. MST, at the Challis Field Office and also on the BLM Idaho Web site at: http://www.blm.gov/id/st/en/prog/wild_horses_/gathers.html. Information will also be available by calling the Challis Field Office at 208-879-6200.

This closure order will be posted in the Challis Field Office on the date this notice is published in the Federal Register. Maps of the affected area and other documents associated with this closure will be available at the Challis Field Office and on the BLM Idaho Web page. The closure is established and administered by the BLM under the authority of 43 CFR 8364.1(a).

Exemptions: Persons who are exempt from this restriction include contractors hired by the BLM to work in the area; Federal, State or local officials working within the scope of their duties; members of any organized rescue or firefighting force in the performance of an official duty; any person holding written authorization from the BLM Authorized officer and persons escorted by BLM personnel to a designated public observation area as long as they stay in that observation area.

Penalties: In accordance with 43 CFR 8360.0-7, violation of this order is punishable by a fine not to exceed $1,000 and/or imprisonment not to exceed 12 months. Violators may also be subject to the enhanced fines provided for in 18 U.S.C. 3571.

Authority: 43 CFR 8364.1.

Joe Kraayenbrink,
Idaho Falls District Manager.

[FR Doc. 2012-25854 Filed 10-18-12; 8:45 am]

BILLING CODE 4310-GG-P